NUCLEAR REGULATORY COMMISSION

[Docket No. 50-286]

Entergy Nuclear Operations, Inc.; Indian Point Nuclear Generating Unit No. 3; Environmental Assessment and Finding of No Significant Impact

The U.S. Nuclear Regulatory Commission (NRC) is considering issuance of an amendment to Facility Operating License No. DPR-64, issued to Entergy Nuclear Operations, Inc. (the licensee), for operation of the Indian Point Nuclear Generating Unit No. 3 (IP3) located in Westchester County, New York.

Environmental Assessment

Identification of the Proposed Action

The proposed action would modify the Technical Specifications (TSs) by replacing them with Improved Standard Technical Specifications (ISTS). The amendment would also change requirements regarding setpoints or allowable values associated with power range flux, pressurizer pressure, overtemperature delta T, overpower deltaT, low reactor coolant loop flow, high pressurizer water level, steam generator water level, containment pressure, auto stop oil pressure, high steam line differential pressure and high steam flow; it would extend the allowable time to restore an inoperable power operated relief valve to service; it would extend the frequency for the pressure isolation valve leakage testing surveillance from 18 to 24 months; it would change current TS requirements by focusing on ensuring containment integrity at individual component level rather than at a zone level; and it would add main steam check valve operability conditions.

The proposed action is in accordance with the licensee's application for amendment dated December 11, 1998, as supplemented by letters dated December 15, 1998, May 17, 1999, August 16, 2000, September 8, 2000, September 14, 2000, September 27, 2000, November 30, 2000, January 8, 2001, and January 11, 2001.

The Need for the Proposed Action

The proposed action is necessary to allow the licensee to implement the ISTS. The ISTS are based on standard Westinghouse Technical Specifications and have been implemented by several utilities. They are widely considered an improvement over current TSs.

Environmental Impacts of the Proposed Action

The NRC has completed its evaluation of the proposed action and concludes that the proposed amendment will have no significant environmental impact. The ISTS are based on the standard Westinghouse TSs and are widely used throughout the industry.

The proposed action will not significantly increase the probability or consequences of accidents, no changes are being made in the types of any effluents that may be released off site, and there is no significant increase in occupational or public radiation exposure. Therefore, there are no significant radiological environmental impacts associated with the proposed action.

With regard to potential nonradiological impacts, the proposed action does not involve any historic sites. It does not affect nonradiological plant effluents and has no other environmental impact. Therefore, there are no significant nonradiological environmental impacts associated with the proposed action.

Accordingly, the NRC concludes that there are no significant environmental impacts associated with the proposed action.

Alternatives to the Proposed Action

As an alternative to the proposed action, the staff considered denial of the proposed action (i.e., the “no-action” alternative). Denial of the application would result in no change in current environmental impacts. The environmental impacts of the proposed action and the alternative action are similar.

Alternative Use of Resources

This action does not involve the use of any resources not previously considered in the Final Environmental Statement for IP3.

Agencies and Persons Consulted

In accordance with its stated policy, on January 24, 2001, the staff consulted with the New York State official, Jay Dunkelberger of the New York Department of Radiation Health, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated December 11, 1998, as supplemented by letters dated December 15, 1998, May 17, 1999, August 16, 2000, September 8, 2000, September 14, 2000, September 27, 2000, November 30, 2000, January 8, 2001, and January 11, 2001. Documents may be examined, and/or copied for a fee, at the NRC's Public Document Room, located at One White Flint North, 11555 Rockville Pike (first floor), Rockville, Maryland. Publicly available records will be accessible electronically from the ADAMS Public Library component on the NRC Web site, http://www.nrc.gov (the Electronic Reading Room).

Dated at Rockville, Maryland, this 16th day of February 2001.
For the Nuclear Regulatory Commission.
George F. Wunder,
Project Manager, Section 1, Project Directorate I, Division of Licensing Project Management, Office of Nuclear Reactor Regulation.

[FR Doc. 01-4625 Filed 2-23-01; 8:45 am]

BILLING CODE 7590-01-P